DEPARTMENT OF JUSTICE

Office of Justice Programs

[OMB Number 1121-NEW]

Agency Information Collection Activities: New Information Collection, Comments Requested

ACTION: 30-Day Notice of Information Collection Under Review: NICS Act State Record Estimates Data Collection.

The Department of Justice (DOJ), Office of Justice Programs, Bureau of Justice Statistics (BJS), will be submitting the following information collection request to the Office of Management and Budget (OMB) for review and approval in accordance with the Paperwork Reduction Act of 1995. The proposed information collection is published to obtain comments from the public and affected agencies. This proposed information collection was previously published in the Federal Register Volume 73, Number 150, page 45245 on August 4, 2008, allowing for a 60 day comment period.

The purpose of this notice is to allow for an additional 30 days for public comment until November 13, 2008. This process is conducted in accordance with 5 CFR 1320.10.

The proposed information collection is available online at http://www.ojp.usdoj.gov/bjs/niaa.htm.

Written comments should be directed to: Gerard F. Ramker, Bureau of Justice Statistics, 810 Seventh St., NW., Washington, DC 20531. Comments are solicited to:

—Evaluate whether the proposed collection of information is necessary for the proper performance of the functions of the Bureau of Justice Statistics pursuant to the NICS Improvement Amendments Act of 2007, including whether the information will have practical utility;

—Evaluate the accuracy of the agencies' estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

(1) Type of Information Collection: New information collection.

(2) Title of the Form/Collection: NICS Act State Record Estimates Data Collection.

(3) Agency form number, if any, and the applicable component of the Department of Justice sponsoring the collection: Not applicable.

(4) Affected public who will be asked or required to respond, as well as a brief abstract: Primary: State and Local Government. This information collection seeks of available state and local records, and other information pursuant to the NICS Improvement Amendments Act of 2007 (Pub. L. 110-180), enacted on January 8, 2008. Submission of this information is a prerequisite for states to be eligible to apply for federal grant funds under programs authorized in the Act, should Congress appropriate funds for this purpose.

(5) An estimate of the total number of respondents and the amount of time estimated for an average respondent to respond: Respondents may include the fifty (50) states, the District of Columbia, and the territories of Guam, American Samoa, U.S. Virgin Islands, Puerto Rico, and the Commonwealth of the Northern Mariana Islands. The time required to complete the information collection form is estimated at two (2) hours. It is estimated that the collaboration, research and analysis required to develop the estimates and formulate the responses required by the initial information collection could range between 8 and 160 hours depending on the availability of data on which required estimates can be based.

(6) An estimate of the total public burden (in hours) associated with the collection: The range of total burden hours associated with this collection is estimated at between 896 and 17,920 hours.

If additional information is required contact: Lynn Bryant, Department Clearance Officer, United States Department of Justice, Justice Management Division, Policy and Planning Staff, Patrick Henry Building, Suite 1600, 601 D Street, NW., Washington, DC 20530.

Dated: October 7, 2008.
Lynn Bryant,
Department Clearance Officer, PRA, U.S. Department of Justice.

[FR Doc. E8-24328 Filed 10-10-08; 8:45 am]

BILLING CODE 4410-18-P